NATIONAL AERONAUTICS AND SPACE ADMINISTRATION

[Notice 12-061]

Notice of Intent To Grant Exclusive License

AGENCY: National Aeronautics and Space Administration.

ACTION: Notice of Intent to Grant Exclusive License.

SUMMARY: This notice is issued in accordance with 35 U.S.C. 209(e) and 37 CFR 404.7(a)(1)(i). NASA hereby gives notice of its intent to grant an exclusive license in the United States to practice the invention described and claimed in U.S. Patent Nos. 7,113,820 entitled, “Real-Time, High Frequency QRS Electrocardiograph,” 7,539,535 entitled, “Real-Time, High Frequency QRS Electrocardiograph with Reduced Amplitude Zone Detection,” and 7,386,340 entitled, “System for Diagnosis and Monitoring of Coronary Artery Disease, Acute Coronary Artery Syndromes, Cardiomyopathy and Other Cardiac Conditions,” to Medcare Holdings, LTD, having its principal place of business at P.O. Box 3483, Road Town, Tortola, British Virgin Islands. The patent rights in these inventions have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license.

Objections submitted in response to this notice will not be made available to the public for inspection and, to the extent permitted by law, will not be released under the Freedom of Information Act, 5 U.S.C. 552.

ADDRESSES: Objections relating to the prospective license may be submitted to Patent Counsel, Office of the Chief Counsel, NASA Johnson Space Center, 2101 NASA Parkway, Houston, TX 77058, Mail Code AL; Phone (281) 483-3021; Fax (281) 483-6936.

FOR FURTHER INFORMATION CONTACT: Ted Ro, Intellectual Property Attorney, Office of Chief Counsel, NASA Johnson Space Center, 2101 NASA Parkway, Houston, TX 77058, Mail Code AL; Phone (281) 244-7148; Fax (281) 483-6936. Information about other NASA inventions available for licensing can be found online at http://technology.nasa.gov/.

Sumara M. Thompson-King,
Acting Deputy General Counsel.

[FR Doc. 2012-18715 Filed 7-31-12; 8:45 am]

BILLING CODE 7510-13-P